DEPARTMENT OF TRANSPORTATION

Federal Motor Carrier Safety Administration

[FMCSA Docket No. FMCSA-2006-26600]

Qualification of Drivers; Exemption Applications; Diabetes

Correction

In notice document E7-8178 beginning on page 21316 in the issue of Monday, April 30, 2007, make the following correction:

On page 21316, in the third column, under the heading dates, in the last line, “June 1, 2009” should read “April 30, 2009”.

[FR Doc. Z7-8178 Filed 5-16-07; 8:45 am]

BILLING CODE 1505-01-D